POSTAL REGULATORY COMMISSION

[Docket No. MC2025-424; Order No. 8003]

Mail Classification Schedule

AGENCY: Postal Regulatory Commission.

ACTION: Notice.

SUMMARY: The Commission is recognizing a recent Postal Service filing concerning product description changes to the Mail Classification Schedule related to International Mail. This document informs the public of the filing, invites public comment, and takes other administrative steps.

DATES: Comments are due: December 6, 2024.

ADDRESSES: Submit comments electronically via the Commission's Filing Online system at https://www.prc.gov. Those who cannot submit comments electronically should contact the person identified in the FOR FURTHER INFORMATION CONTACT section by telephone for advice on filing alternatives.

FOR FURTHER INFORMATION CONTACT: David A. Trissell, General Counsel, at 202-789-6820.

SUPPLEMENTARY INFORMATION:

Table of Contents

I. Introduction

II. Commission Action

III. Ordering Paragraphs

I. Introduction

On November 15, 2024, pursuant to 39 CFR 3040.190, the Postal Service filed a notice to change Part D, which refers to the Country Price Lists for International Mail, in the Mail Classification Schedule (MCS) section 4000.¹ Effective January 19, 2025, the Postal Service plans to change the country price groups assigned to the Market Dominant product Outbound Single-Piece First-Class Mail International and competitive international mail products destined for Saint Pierre & Miquelon. Notice at 1.

¹ Notice of United States Postal Service of Minor Classification Changes, November 15, 2024 (Notice).

II. Commission Action

The Commission establishes Docket No. MC2025-424 for consideration of matters raised by the Notice.

Pursuant to 39 CFR 3040.191, the Commission has posted the Notice on its website and invites comments on whether the Postal Service's filings are consistent with the policies and applicable criteria of chapter 36 of title 39 of the United States Code, 39 CFR 3040.190-192, and any applicable Commission directives and orders. Comments are due December 6, 2024. The public portions of the filings can be accessed via the Commission's website (https://www.prc.gov).

The Commission appoints Katrina R. Martinez to represent the interests of the general public (Public Representative) in this docket, pursuant to 39 U.S.C. 505 and 39 CFR 3040.191(d).

III. Ordering Paragraphs

It is ordered:

1. The Commission establishes Docket No. MC2025-424 for consideration of matters raised by the Postal Service's Notice.

2. Pursuant to 39 U.S.C. 505 and 39 CFR 3040.191(d), Katrina R. Martinez is appointed to serve as an officer of the Commission (Public Representative) to represent the interests of the general public in this proceeding.

3. Comments are due December 6, 2024.

4. The Secretary shall arrange for publication of this Order in the Federal Register.

By the Commission.

Erica A. Barker,
Secretary.

[FR Doc. 2024-27293 Filed 11-20-24; 8:45 am]

BILLING CODE 7710-FW-P